DEPARTMENT OF COMMERCE

International Trade Administration

Overseas Trade Mission

AGENCY: International Trade Administration, Department of Commerce.

ACTION: Notice.

SUMMARY: The Department of Commerce invites U.S. companies to participate in the below listed overseas trade missions. For a more complete description of each trade mission, obtain a copy of the mission statement from the Project Officer indicated for each mission below. Recruitment and selection of private sector participants for these missions will be conducted according to the Statement of Policy Governing Department of Commerce Overseas Trade Missions dated March 3, 1997.

Assistant Secretarial Business Development Mission

Gaborone, Botswana; Capetown, Johannesburg and Durban, South Africa.

February 7-15, 2002.

Recruitment closes on December 21, 2001.

For Further information contact: Caroline McCall, U.S. Commercial Service.

Telephone (202) 482-2499; or email Caroline.McCall@mail.doc.gov.

Home Renovation Matchmaker

Toronto and Montreal, Canada.

March 18-22, 2002.

Recruitment closes February 8, 2002.

For further information contact: Monica McFarlane, U.S. Department of Commerce.

Telephone (202) 482-3364; or email Monica.McFarlane@mail.doc.gov.

Information Technologies Matchmaker

Toronto and Montreal, Canada.

May 6-9, 2002.

Recruitment closes on March 29, 2002.

For further information contact: Bill Kutson, U.S. Department of Commerce.

Telephone: (202) 482-2839; or email William.Kutson@mail.doc.gov.

Benelux Environmental Technologies Trade Mission

The Hague, Netherlands, and Brussels, Belgium.

March 4-8, 2001.

Recruitment closes on January 18, 2001.

For further information contact: David Fiscus, U.S. Commercial Service.

Telephone (202) 482-1599; or email David.Fiscus@mail.doc.gov.

Benelux Information and Communications Technology Trade Mission

Amsterdam, Netherlands, and Brussels, Belgium.

May 13-17, 2001.

Recruitment closes on April 10, 2002.

For further information contact: David Fiscus, U.S. Commercial Service.

Telephone (202) 482-1599; or email David.Fiscus@mail.doc.gov.

Medical Device Trade Mission

Beijing, Chengdu, and Hong Kong, China.

September 15-24, 2002.

Recruitment closes on July 12, 2002.

For further information contact: Lisa Huot, U.S. Department of Commerce.

Telephone (202) 482-2796; or email: lisa_hout@ita.doc.gov.

FOR FURTHER INFORMATION CONTACT: Thomas Nisbet, U.S. Department of Commerce. Telephone 202-482-5657, or e-Mail Tom_Nisbet@ita.doc.gov.

Dated: November 28, 2001.
Thomas H. Nisbet,
Director, Promotion Planning and Support, Office of Export Assistance and Business Outreach.

[FR Doc. 01-30015 Filed 12-3-01; 8:45 am]

BILLING CODE 3510-DR-P